FEDERAL COMMUNICATIONS COMMISSION

47 CFR Part 73

[DA 06-338; MB Docket No. 04-341; RM-10779; RM-11110]

Radio Broadcasting Services; New Harmony, IN and West Salem, IL

AGENCY: Federal Communications Commission.

ACTION: Final rule.

SUMMARY: This document denies a petition filed by Linda A. Davidson, proposing the allotment of Channel 266A at New Harmony, Indiana, as that community's first local service. See 69 FR 54760, published September 10, 2004. This document also grants a counterproposal filed by West Salem Broadcasting by allotting Channel 266A at West Salem, Illinois, as its first local service. Channel 266A can be allotted to West Salem with a site restriction of 9.7 kilometers (6.0 miles) south of the community, using coordinates 38-25-54 NL and 88-01-17 WL.

DATES: Effective April 3, 2006.

ADDRESSES: Federal Communications Commission, 445 12th Street, SW., Washington, DC 20554.

FOR FURTHER INFORMATION CONTACT: Rolanda F. Smith, Media Bureau, (202) 418-2180.

SUPPLEMENTARY INFORMATION: This is a summary of the Commission's Report and Order, MB Docket No. 04-341, adopted February 15, 2006, and released February 17, 2006. The full text of this Commission decision is available for inspection and copying during normal business hours in the Commission's Reference Center, 445 12th Street, SW., Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Illinois, is amended by adding West Salem, Channel 266A.

Federal Communications Commission.
John A. Karousos,
Assistant Chief, Audio Division, Media Bureau.

[FR Doc. 06-2420 Filed 3-14-06; 8:45 am]

BILLING CODE 6712-01-P